GENERAL SERVICES ADMINISTRATION

[OMB Control No. 3090-0027; Docket No. 2021-0001; Sequence No. 5]

Submission for OMB Review; General Services Administration Acquisition Regulation; Contract Administration, Quality Assurance (GSA Forms 1678 and 308)

AGENCY: Office of Acquisition Policy, General Services Administration (GSA).

ACTION: Notice of request for comments regarding an extension to an existing OMB clearance.

SUMMARY: Under the provisions of the Paperwork Reduction Act, the General Services Administration will be submitting to the Office of Management and Budget (OMB) a request to review and approve an extension of a previously approved information collection requirement regarding contract administration and quality assurance.

DATES: Submit comments on or before: November 1, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Vernita Misidor, Procurement Analyst, General Services Acquisition Policy Division, at 202-357-9681 or via email to vernita.misidor@gsa.gov.

SUPPLEMENTARY INFORMATION:

A. Purpose

Under certain contracts, because of reliance on contractor inspection in lieu of Government inspection, GSA's Federal Acquisition Service requires documentation from its contractors to effectively monitor contractor performance and ensure that it will be able to take timely action should that performance be deficient.

B. Annual Reporting Burden

GSA Form 1678

Annual Responses: 250,0000.

Responses per Respondent: 1.

Total Annual Responses: 250,0000.

Hours per Response: 0.008.

Total Burden Hours: 2,000.

GSA Form 308

Annual Responses: 2,600.

Responses per Respondent: 1.

Total Annual Responses: 2,600.

Hours per Response: 0.08.

Total Burden Hours: 208.

C. Public Comments

A 60-day notice published in the Federal Register at 86 FR 39022 on July 23, 2021. No comments were received.

Obtaining Copies of Proposals: Requesters may obtain a copy of the information collection documents from the Regulatory Secretariat Division by calling 202-501-4755 or emailing GSARegSec@gsa.gov. Please cite OMB Control No. 3090-0027, Contract Administration, Quality Assurance (GSA Forms 1678 and 308), in all correspondence.

Jeffrey A. Koses,
Senior Procurement Executive, Office of Acquisition Policy, Office of Government-wide Policy.

[FR Doc. 2021-21273 Filed 9-29-21; 8:45 am]

BILLING CODE 6820-61-P